DEPARTMENT OF ENERGY

Federal Energy Regulatory Commission

[Docket No. RP01-215-000]

El Paso Natural Gas Company: Notice of Proposed Changes in FERC Gas Tariff

February 1, 2001.

Take notice that on January 29, 2001, El Paso Natural Gas Company (El Paso) tendered for filing to become part of its FERC Gas Tariff, Second Revised Volume No. 1-A, the following tariff sheet, with an effective date of March 1, 2001:

Sixth Revised Sheet No. 118

El Paso states that the tariff sheet is being filed to transfer the Billing Determinants associated with Cyprus Miami Mining Corporation and Cyprus Christmas Mine Corporation to Phelps Dodge Corporation. The tendered tariff sheet is proposed to become effective March 1, 2001.

Any person desiring to be heard or to protest said filing should file a motion to intervene or a protest with the Federal Energy Regulatory Commission, 888 First Street NE., Washington, DC 20426, in accordance with Sections 385.24 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www/ferc.fed.us/efi/doorbell.htm.

David P. Boergers,
Secretary.

[FR Doc. 01-3146 Filed 2-6-01; 8:45 am]

BILLING CODE 6717-01-M